POSTAL SERVICE

Privacy Act of 1974, System of Records

AGENCY: Postal Service.

ACTION: Notice of new system of records.

SUMMARY: The purposes of this document are to publish notice of a change in title to grouping of records 170.000 Operations Data Collection System to read “170.000 Resource Management/Productivity Records” and to publish notice of a new Privacy Act system of records, USPS 170.020, Resource Management/Productivity Records—Resource Management Database. The new system contains information about the usage of leave including, but not limited to, continuation of pay, sick, annual, leave without pay, leave used as a result of the Family Medical Leave Act (FMLA), sick leave for dependent care, military leave, etc., by an employee. Additionally, employee work hours by operation are contained in this system. The system also contains information supporting the use of certain leave information concerning absence-related corrective actions and appeal information related to those actions. This information will be used by management to ensure accurate leave data collection, to monitor leave usage, to reduce administrative redundancy, and to monitor the health and wellness of employees.

DATES: Any interested party may submit written comments on the proposed new system of records. This proposal will become effective without further notice on September 11, 2000, unless comments received on or before that date result in a contrary determination.

ADDRESSES: Written comments on this proposal should be mailed or delivered to Finance Administration/FOIA, United States Postal Service, 475 L'Enfant Plaza SW, Room 8141, Washington, DC 20260-5202. Copies of all written comments will be available at the above address for public inspection and photocopying between 8 a.m. and 4:45 p.m., Monday through Friday.

FOR FURTHER INFORMATION CONTACT: Rubenia Carter, (202) 268-4872.

SUPPLEMENTARY INFORMATION: To more effectively manage leave, the Postal Service will collect and maintain leave type and attendance information in a fashion that will make this information readily accessible to first-line supervisors and managers when needed to make informed decisions that affect their employees. This information will be used by management to ensure accurate leave data collection, to monitor leave usage, to reduce administrative redundancy, and to monitor the health and wellness of employees.

Maintenance of these records is not expected to have a significant effect on individual privacy rights. The information will be kept in a secured environment, with automated data processing (ADP), physical, and administrative security, and technical software applied to information on computer media. Computers and hard copy records are maintained in a secured environment.

Pursuant to 5 U.S.C. 552a(e)(11), interested persons are invited to submit written data, views, or arguments on this proposal. A report on the following proposed system has been sent to Congress and to the Office of Management and Budget for their evaluation.

USPS 170.020

SYSTEM NAME:

Resource Management/Productivity Records—Resource Management Database, USPS 170.020.

SYSTEM LOCATION:

Human Resources and Operations, Headquarters; and other postal facilities as determined by management.

CATEGORIES OF INDIVIDUALS COVERED BY THE SYSTEM:

Postal employees.

CATEGORIES OF RECORDS COVERED BY THE SYSTEM:

Records contain, but are not limited to, the employee's name, home address, telephone, pay location, work hours, overtime status, lunch time, leave balance and usage-sick and annual leave, continuation of pay, sick leave for dependent care, family medical leave and supporting documentation—leave without pay, limited medical information, and information concerning corrective action and grievance outcomes as they relate to leave usage.

AUTHORITY FOR MAINTENANCE OF THE SYSTEM:

39 U.S.C. 401, 1001, 1003, 1005, and 5 U.S.C. 8339.

PURPOSE(S):

Use to establish effective leave administration, analyze employee absences of all types, identify potential attendance problems, and identify employees eligible for attendance-related awards.

ROUTINE USES OF RECORDS MAINTAINED IN THE SYSTEM, INCLUDING CATEGORIES OF USERS AND THE PURPOSE OF SUCH USES:

General routine use statements a, b, c, d, e, f, g, h, j, k, l, and m listed in the prefatory statement at the beginning of the Postal Service's published system notices apply to this system.

POLICIES AND PRACTICES FOR STORING, RETRIEVING, ACCESSING, RETAINING, AND DISPOSING OF RECORDS IN THE SYSTEM:

STORAGE:

Paper records are maintained in locked file cabinets and computer files on magnetic tape or disk in automated office equipment.

RETRIEVABILITY:

By the employee's name or social security number.

SAFEGUARDS:

Access to information in computer files is limited to personnel having an authorized computer password with hierarchical security clearance privileges. Hard copy records are maintained within locked file cabinets under the general scrutiny of designated postal personnel who have jurisdiction over the information. Supporting Family Medical Leave documentation containing restricted medical information will be maintained separately in a locked file cabinet by the FMLA coordinator, and supporting injury compensation documentation will be maintained separately in a locked file cabinet by the Injury Compensation Control Office.

RETENTION AND DISPOSAL:

(a) Hard copy records, including leave slips and leave analysis records, are maintained for 2 years from date of cutoff.

(b) Automated information including absence-related corrective action and disciplinary information is maintained as provided for in the National Agreement.

SYSTEM MANAGER(S) AND ADDRESS:

Senior Vice President, Operations, U.S. Postal Service, 475 L'Enfant Plz. SW, Washington DC 20260-2700.

Senior Vice President, Human Resources, U.S. Postal Service, 475 L'Enfant Plz. SW, Washington DC 20260-4200.

NOTIFICATION PROCEDURE:

Individuals wanting to know whether information about them is maintained in this system of records must address inquiries to the department or facility head where employed at the time of reporting. Inquiries should contain full name and social security number.

RECORD ACCESS PROCEDURES:

Requests for access must be made in accordance with the Notification Procedure above and the Postal Service Privacy Act regulations regarding access to records and verification of identity under 39 CFR 266.6.

CONTESTING RECORD PROCEDURES:

See Notification Procedure and Record Access Procedures above.

RECORD SOURCE CATEGORIES:

Information is provided primarily by the record subject; however, some data may be obtained from personnel, leave, and timekeeping and other postal data systems of records.

Stanley F. Mires,
Chief Counsel, Legislative.

[FR Doc. 00-19577 Filed 8-1-00; 8:45 am]

BILLING CODE 7710-12-P